DEPARTMENT OF HEALTH AND HUMAN SERVICES

Centers for Disease Control and Prevention

[30 Day-08-07AN]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Program Effectiveness Evaluation of Workplace Intervention for Intimate Partner Violence (IPV)—New—National Center for Injury Prevention and Control (NCIPC), Centers for Disease Control and Prevention (CDC).

Background and brief description of the proposed project

Intimate partner violence (IPV) affects a substantial number of Americans, and there has recently been increasing recognition of the impact it has on the workplace. In addition to direct impacts (batterers often stalk or even attack IPV victims at their place of work), IPV has indirect impacts on the workplace environment through lost productivity due to medical leave, absenteeism, and fear and distraction on the part of victims and co-workers. The Centers for Disease Control and Prevention (CDC) has contracted with RTI International (RTI) to evaluate an ongoing workplace IPV prevention program being implemented at a national corporation. The purpose of the proposed evaluation is to document in detail the workplace IPV prevention activities delivered by the company, to determine the impact of these activities on short-term and long-term outcomes, and to determine the cost-effectiveness of the program. All managers at the corporation will be screened to assess training experiences. Then, more in-depth surveys will be done among managers who have not had the corporation's IPV training. We will survey those 500 managers at baseline, and 6 and 12 months later. Manager surveys will focus on knowledge/awareness of IPV and company resources for IPV and number of referrals for IPV assistance. We will also survey two waves of employees of those managers (N = 1500) using a web-based survey at baseline and 12 months later to assess their self-evaluated productivity, absenteeism, and perceptions of manager behavior. We will compare the responses of managers (and their employees) who received the IPV training in the study period (i.e., sometime between the baseline and 12 month surveys) with untrained managers. The study will provide CDC and employers information about the potential effectiveness and cost-effectiveness of workplace IPV intervention strategies.

There are no costs to respondents other than their time to participate in the interview. The estimated total annualized burden hours are 1125.

Estimated Annualized Burden Hours
Type of respondent | Form name | Number of respondents | Number of responses per respondent | Average burden per response (in hours)
Manager | Manager Baseline and Follow-up Survey | 500 | 3 | 30/60
Employee | Employee Survey | 1,500 | 1 | 15/60

Dated: November 2, 2007.
Maryam I. Daneshvar,
Acting Reports Clearance Officer, Centers for Disease Control and Prevention.

[FR Doc. E7-21995 Filed 11-8-07; 8:45 am]

BILLING CODE 4163-18-P